DEPARTMENT OF COMMERCE

National Oceanic and Atmospheric Administration

RIN 0648-XA217

Pacific Fishery Management Council; Public Meeting

AGENCY: National Marine Fisheries Service (NMFS), National Oceanic and Atmospheric Administration (NOAA), Commerce.

ACTION: Notice of a public meeting.

SUMMARY: The Pacific Fishery Management Council (Pacific Council) will hold a meeting, via conference call, of its Coastal Pelagic Species Management Team (CPSMT) and Coastal Pelagic Species Advisory subpanel (CPSAS). The meeting is open to the public.

DATES: The conference call will be held Monday, February 28, 2011, from 2 p.m. until 4 p.m. Pacific Time.

ADDRESSES: A listening station will be available at the Pacific Council offices. Please contact the Pacific Council Staff Officer for accommodations.

FOR FURTHER INFORMATION CONTACT: Kerry Griffin, Staff Officer; telephone: (503) 820-2280.

SUPPLEMENTARY INFORMATION: The purpose of the joint conference call is to consider any CPS-related fisheries research proposals that will require an Exempted Fishing Permit (EFP) from NMFS. At its March meeting, the Pacific Council will consider adopting for public review any proposals that are submitted. The CPSMT and CPSAS will discuss any EFP proposals, and will develop statements to be included in the March Council meeting record.

Special Accommodations

This meeting is physically accessible to people with disabilities. Requests for sign language interpretation or other auxiliary aids should be directed to Ms. Carolyn Porter at (503) 820-2280 at least 5 days prior to the meeting date.

Dated: February 10, 2011.
Tracey L. Thompson,
Acting Director, Office of Sustainable Fisheries, National Marine Fisheries Service.

[FR Doc. 2011-3392 Filed 2-14-11; 8:45 am]

BILLING CODE 3510-22-P